NUCLEAR REGULATORY COMMISSION

[Docket Nos. 50-454; 50-455; 50-461; 50-298; 50-237; 50-249; 50-333; 50-321; 50-348; 50-366; 50-364; 50-354; 50-272; 50-311; 50-373; 50-374; 50-352; 50-353; 50-220; 50-410; 50-255; 50-266; 50-301; 50-254; 50-265; 50-382; NRC-2020-0110]

Issuance of Multiple Exemptions in Response to COVID-19 Public Health Emergency

AGENCY: Nuclear Regulatory Commission.

ACTION: Exemptions; issuance.

SUMMARY: The U.S. Nuclear Regulatory Commission (NRC) issued 15 exemptions in response to requests from 7 licensees. The exemptions afford these licensees temporary relief from certain requirements under NRC regulations. The exemptions are in response to the licensees' requests for relief due to the coronavirus disease 2019 (COVID-19) public health emergency (PHE). The NRC is issuing a single notice to announce the issuance of the exemptions.

DATES: During the period from August 3, 2020, to August 28, 2020, the NRC granted 15 exemptions in response to requests submitted by licensees from June 24, 2020, to August 20, 2020.

ADDRESSES: Please refer to Docket ID NRC-2020-0110 when contacting the NRC about the availability of information regarding this document. You may obtain publicly-available information related to this document using any of the following methods:

• Federal Rulemaking Website: Go to https://www.regulations.gov and search for Docket ID NRC-2020-0110. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room reference staff at 1-800-397-4209, 301-415-4737, or by email to pdr.resource@nrc.gov.

For the convenience of the reader, instructions about obtaining materials referenced in this document are provided in the “Availability of Documents” section.

FOR FURTHER INFORMATION CONTACT: James Danna, Office of Nuclear Reactor Regulation, U.S. Nuclear Regulatory Commission, Washington, DC 20555-0001; telephone: 301-415-7422, email: James.Danna@nrc.gov.

SUPPLEMENTARY INFORMATION:

I. Introduction

During the period from August 3, 2020, to August 28, 2020, the NRC granted 15 exemptions in response to requests submitted by licensees from June 24, 2020, to August 20, 2020. These exemptions temporarily allow the licensees to deviate from certain requirements (as cited below) of various parts of chapter I of title 10 of the Code of Federal Regulations (10 CFR).

The exemptions from certain requirements of 10 CFR part 26, “Fitness for Duty Programs,” for Exelon Generation Company, LLC (for James A. FitzPatrick Nuclear Power Plant), and NextEra Energy Point Beach, LLC (for Point Beach Nuclear Plant, Units 1 and 2) allow these licensees temporary relief from the work-hour controls under 10 CFR 26.205(d)(1) through (d)(7). The exemptions from 10 CFR 26.205(d)(1) through (d)(7) ensure that the control of work hours and management of worker fatigue do not unduly limit licensee flexibility in using personnel resources to most effectively manage the impacts of the COVID-19 PHE on maintaining the safe operation of these facilities. Specifically, the licensees stated that their staffing levels are affected or are expected to be affected by the COVID-19 PHE, and they can no longer meet or likely will not meet the work-hour controls of 10 CFR 26.205(d)(1) through (d)(7). The licensees have committed to effecting site-specific administrative controls for COVID-19 PHE fatigue-management for personnel specified in 10 CFR 26.4(a).

The exemption from certain requirements of 10 CFR part 55, “Operators' Licenses,” for NextEra Energy Point Beach, LLC (for Point Beach Nuclear Plant, Units 1 and 2) affords the licensee a temporary exemption from requirements related to licensed operator requalification program scheduling (under 10 CFR 55.59(a)(1), 10 CFR 55.59(a)(2), and 10 CFR 55.59(c)(1)). The exemption from the requalification program requirements provides increased scheduling flexibility to manage conditions resulting from the COVID-19 PHE by allowing NextEra Energy Point Beach, LLC to reduce the possibility of exposures associated with groups of people gathered in a single location, as discussed above.

The exemptions from certain requirements of 10 CFR part 73 for Exelon Generation Company, LLC (for Byron Station, Unit Nos. 1 and 2; Clinton Power Station, Unit No. 1; Dresden Nuclear Power Station, Units 2 and 3; LaSalle County Station, Units 1 and 2; Limerick Generating Station, Units 1 and 2; Nine Mile Point Nuclear Station, Units 1 and 2; Quad Cities Nuclear Power Station, Units 1 and 2); Entergy Nuclear Operations, Inc. (for Palisades Nuclear Plant); Nebraska Public Power District (for Cooper Nuclear Station); Southern Nuclear Operating Company, Inc. (for Edwin I. Hatch Nuclear Plant, Unit Nos. 1 and 2; and Joseph M. Farley Nuclear Plant, Units 1 and 2); PSEG Nuclear LLC (for Hope Creek Generating Station and Salem Nuclear Generating Station, Unit Nos. 1 and 2); and Entergy Operations, Inc. (for Waterford Steam Electric Station, Unit 3) afford these licensees temporary exemptions from certain requirements of 10 CFR part 73, appendix B, “General Criteria for Security Personnel,” section VI. The exemptions will help to ensure that these regulatory requirements do not unduly limit licensee flexibility in using personnel resources in a manner that most effectively manages the impacts of the COVID-19 PHE on maintaining the safe and secure operation of these facilities and the implementation of the licensees' NRC-approved security plans, protective strategy, and implementing procedures. These licensees have committed to certain security measures to ensure response readiness and for their security personnel to maintain performance capability.

The NRC is providing compiled tables of exemptions using a single Federal Register notice for COVID-19-related exemptions instead of issuing individual Federal Register notices for each exemption. The compiled tables below provide transparency regarding the number and type of exemptions the NRC has issued. Additionally, the NRC publishes tables of approved regulatory actions related to the COVID-19 PHE on its public website at https://www.nrc.gov/about-nrc/covid-19/reactors/licensing-actions.html.

II. Availability of Documents

The tables below provide the facility name, docket number, document title, and ADAMS accession number for each exemption issued. Additional details on each exemption issued, including the exemption request submitted by the respective licensee and the NRC's decision, are provided in each exemption approval listed in the tables below. For additional directions on accessing information in ADAMS, see the ADDRESSES section of this document.

Byron Station, Unit Nos. 1 and 2—50-454 and 50-455
Document title | ADAMS accession No.
Byron Station, Units Nos.1 and 2—Request for Exemption from Certain 10 CFR part 73 Training Requirements Due to Coronavirus 2019 Public Health Emergency, dated July 30, 2020 | ML20212L886 (non-public, withheld pursuant to 10 CFR 2.390).
Byron Station, Units Nos. 1 and 2—Exemption Request from Certain Requirements of 10 CFR part 73, appendix B, “General Criteria for Security Personnel” [COVID-19] (EPID L-2020-LLE-0124), dated August 17, 2020 | ML20213C177.

Clinton Power Station, Unit No. 1—Docket No. 50-461
Document title | ADAMS accession No.
Clinton Power Station, Unit No. 1—Request for Exemption from Certain 10 CFR part 73 Training Requirements Due to Coronavirus 2019 Public Health Emergency, dated July 23, 2020 | ML20205L605 (non-public, withheld pursuant to 10 CFR 2.390).
Clinton Power Station, Unit No. 1—Exemption Request from Certain Requirements of 10 CFR part 73, appendix B, General Criteria for Security Personnel (EPID-L-2020-LLE-0119 [COVID-19]), dated August 13, 2020 | ML20209A000.

Cooper Nuclear Station—Docket No. 50-298
Document title | ADAMS accession No.
Cooper Nuclear Station—Temporary Exemption Request from 10 CFR part 73, appendix B, section VI Requirements for Force-on-Force Exercises due to COVID-19 Pandemic, dated June 24, 2020 | ML20191A274 (non-public, withheld pursuant to 10 CFR 2.390).
Cooper Nuclear Station—Supplement to Temporary Exemption Request from 10 CFR part 73, appendix B, section VI Requirements for Force-on-Force Exercises due to COVID-19 Pandemic, dated July 27, 2020 | ML20219A218 (non-public, withheld pursuant to 10 CFR 2.390).
Cooper Nuclear Station—Temporary Exemption From Certain Requirements of 10 CFR part 73, appendix B, General Criteria for Security Personnel, section VI (EPID L 2020-LLE-0110 [COVID-19]), dated August 24, 2020 | ML20212J176.

Dresden Nuclear Power Station, Units 2 and 3—Docket Nos. 50-237 and 50-249
Document title | ADAMS accession No.
Dresden Nuclear Power Station, Units 2 and 3—Request for Exemption from Certain 10 CFR part 73 Training Requirements Due to Coronavirus 2019 Public Health Emergency, dated July 28, 2020 | ML20210M410 (non-public, withheld pursuant to 10 CFR 2.390).
Dresden Nuclear Power Station, Units 2 and 3—Exemption Request from Certain Requirements of 10 CFR part 73, appendix B, “General Criteria for Security Personnel” [COVID-19] (EPID L-2020-LLE-0123), dated August 27, 2020 | ML20216A260.

James A. FitzPatrick Nuclear Power Plant—Docket No. 50-333
Document title | ADAMS accession No.
James A. FitzPatrick Nuclear Power Plant—Incoming Request re: COVID-19 Exemption from [10 CFR] part 26 Work Hours Requirements, dated August 20, 2020 | ML20233A814.
James A. FitzPatrick Nuclear Power Plant—Exemption from Select Requirements of 10 CFR part 26 (EPID L-2020-LLE-0136 [COVID-19]), dated August 28, 2020 | ML20238B947.

Edwin I. Hatch Nuclear Plant, Unit Nos. 1 and 2, Joseph M. Farley Nuclear Plant, Units 1 and 2—Docket Nos. 50-321, 50-348, 50-366, and 50-364
Document title | ADAMS accession No.
Edwin I. Hatch Nuclear Plant, Unit Nos. 1 and 2, and Joseph M. Farley Nuclear Plant, Units 1 and 2—Southern Nuclear Operating Co., Inc. Requests Temporary Exemptions from Security Training Requalification Requirement due to COVID-19, dated August 7, 2020 | ML20220A331 (non-public, withheld pursuant to 10 CFR 2.390).
Joseph M. Farley Nuclear Plant, Units 1 and 2, and Edwin I. Hatch Nuclear Plant, Unit Nos. 1 and 2—Exemption Request from Certain Requirements of 10 CFR part 73, appendix B, “General Criteria for Security Personnel,” section VI (EPIDs L-2020-LLE-0131/0132), dated August 18, 2020 | ML20220A673.

Hope Creek Generating Station, Salem Nuclear Generating Station, Unit Nos. 1 and 2—Docket Nos. 50-354, 50-272, and 50-311
Document title | ADAMS accession No.
Salem Generating Station, Unit Nos. 1 and 2, and Hope Creek Generating Station—LR-N20-0049 COVID-19 Email Exemption Request Security FOF [Force-on-Force]—NRC, dated July 21, 2020 | ML20204A724.
Hope Creek Generating Station and Salem Nuclear Generating Station, Unit Nos. 1 and 2—Exemptions From Certain Requirements of 10 CFR part 73, appendix B, “General Criteria for Security Personnel,” section VI (EPID L-2020-LLE-0118 [COVID-19]), dated August 3, 2020 | ML20204A937.

LaSalle County Station, Units 1 and 2—Docket Nos. 50-373 and 50-374
Document title | ADAMS accession No.
LaSalle County Station Units 1 and 2—Request for Exemption from Certain 10 CFR part 73 Training Requirements Due to Coronavirus 2019 Public Health Emergency, dated July 17, 2020 | ML20199M370 (non-public, withheld pursuant to 10 CFR 2.390).
LaSalle County Station, Units 1 and 2—Temporary Exemption Request from Certain Requirements of 10 CFR part 73, appendix B, “General Criteria for Security Personnel,” section VI (EPID L-2020-LLE-0116) [COVID-19], dated August 3, 2020 | ML20203M233.

Limerick Generating Station, Units 1 and 2—Docket Nos. 50-352 and 50-353
Document title | ADAMS accession No.
Limerick Generating Station, Units 1 and 2—Request for Exemption from Certain 10 CFR part 73 Training Requirements Due to Coronavirus Disease 2019 Public Health Emergency, dated July 29, 2020 | ML20211L699 (non-public, withheld pursuant to 10 CFR 2.390).
Limerick Generating Station, Units 1 and 2—Temporary Exemption from Certain Requirements of 10 CFR part 73, appendix B, “General Criteria for Security Personnel” (EPID L-2020-LLE-0122 [COVID-19]), dated August 19, 2020 | ML20209A525.

Nine Mile Point Nuclear Station, Units 1 and 2—Docket Nos. 50-220 and 50-410
Document title | ADAMS accession No.
Request for Exemption from Certain 10 CFR part 73 Training Requirements Due to Coronavirus 2019 Public Health Emergency, dated July 24, 2020 | ML20206K830 (non-public, withheld pursuant to 10 CFR 2.390).
Nine Mile Point Nuclear Station, Units 1 and 2—Exemption from Certain Requirements of 10 CFR part 73, appendix B, “General Criteria for Security Personnel” (EPID L-2020-LLE-0210 [COVID-19]), dated August 25, 2020 | ML20218A860.

Palisades Nuclear Plant—Docket No. 50-255
Document title | ADAMS accession No.
Palisades Nuclear Plant—Temporary Exemption Request from 10 CFR part 73, appendix B, section VI Requirements for Force-On-Force Exercises due to COVID-19 Pandemic, dated August 4, 2020 | ML20218A353 (non-public, withheld pursuant to 10 CFR 2.390).
Palisades Nuclear Plant—Temporary Exemption from 10 CFR part 73, appendix B, General Criteria for Security Personnel, section VI, Requirements for Force-on-Force Exercise (EPID L-2020-LLE-0126 [COVID-19]), dated August 21, 2020 | ML20219A156.

Point Beach Nuclear Plant, Units 1 and 2—Docket Nos. 50-266 and 50-301
Document title | ADAMS accession No.
Point Beach Nuclear Plant, Units 1 and 2—NextEra Energy Point Beach, LLC (NextEra) Requests NRC Approval for Alternative Work Hour Controls Delineated in the NRC Letter of 3/28/2020, dated August 6, 2020 | ML20219A448.
Point Beach Nuclear Plant, Units 1 and 2—Exemption from Select Requirements of 10 CFR part 26 (EPID L-2020-LLE-0129 [COVID-19]), dated August 17, 2020 | ML20219A751.

Point Beach Nuclear Plant, Units 1 and 2—Docket Nos. 50-266 and 50-301
Document title | ADAMS accession No.
Point Beach Nuclear Plant, Units 1 and 2—Request for Exemption from the “not to exceed two years” requirement for the Requalification Program in 10 CFR 55.59(c)(1), dated August 5, 2020 | ML20218A702.
Point Beach Nuclear Plant, Units 1 and 2—Response to Request for Additional Information Request for Exemption from Certain Operator Requalification Requirements, dated August 17, 2020 | ML20230A299.
Point Beach Nuclear Plant, Units 1 and 2—Exemption from Select Requirements of 10 CFR part 55, “Operators' Licenses” (EPID L-2020-LLE-0127 [COVID-19]), dated August 27, 2020 | ML20231A519.

Quad Cities Nuclear Power Station, Units 1 and 2—Docket Nos. 50-254 and 50-265
Document title | ADAMS accession No.
Quad Cities Nuclear Power Station, Units 1 and 2—Request for Exemption from Certain 10 CFR part 73 Training Requirements Due to Coronavirus 2019 Public Health Emergency, dated July 27, 2020 | ML20210M072 (non-public, withheld pursuant to 10 CFR 2.390).
Quad Cities Nuclear Power Station, Units 1 and 2—Exemption Request From Certain Requirements of 10 CFR part 73, appendix B, “General Criteria For Security Personnel,” section VI (EPID L-2020-LLE-0121 [COVID-19]), dated August 27, 2020 | ML20211L833.

Waterford Steam Electric Station, Unit 3—Docket No. 50-382
Document title | ADAMS accession No.
Waterford Steam Electric Station, Unit 3—Temporary Exemption Request from 10 CFR part 73, appendix B, section VI Requirements for Force-On-Force Exercises due to COVID-19 Pandemic, dated August 6, 2020 | ML20219A343 (non-public, withheld pursuant to 10 CFR 2.390).
Waterford Steam Electric Station, Unit 3—Exemption From Certain Requirements of 10 CFR part 73, appendix B, “General Criteria For Security Personnel,” section VI (EPID L-2020-LLE-0130 [COVID-19]), dated August 27, 2020 | ML20227A368.

Dated: September 23, 2020.
For the Nuclear Regulatory Commission.
James G. Danna,
Chief, Plant Licensing Branch I, Division of Operating Reactor Licensing, Office of Nuclear Reactor Regulation.

[FR Doc. 2020-21382 Filed 9-25-20; 8:45 am]

BILLING CODE 7590-01-P